DEPARTMENT OF COMMERCE

National Oceanic and Atmospheric Administration

[I.D. 030607D]

Marine Mammals; File No. 774-1714

AGENCY: National Marine Fisheries Service (NMFS), National Oceanic and Atmospheric Administration (NOAA), Commerce.

ACTION: Notice; receipt of application for amendment.

SUMMARY: Notice is hereby given that the National Marine Fisheries Service, Southwest Fisheries Science Center (SWFSC) (Stephen B. Reilly, Ph.D., Principal Investigator), Protected Resources Division, 8604 La Jolla Shores Dr., La Jolla, CA 92037, has requested an amendment to scientific research Permit No. 774-1714-05.

DATES: Written, telefaxed, or e-mail comments must be received on or before April 11, 2007.

ADDRESSES: The amendment request and related documents are available for review upon written request or by appointment (See SUPPLEMENTARY INFORMATION).

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 774-1714.

FOR FURTHER INFORMATION CONTACT: Amy Hapeman or Carrie Hubard, (301)713-2289.

SUPPLEMENTARY INFORMATION: The subject amendment to Permit No. 774-1714, issued on June 30, 2004 (68 FR 57673), is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

Permit No. 774-1714-05 authorizes the SWFSC to conduct research on seven pinniped species, 53 cetacean species, and five sea turtle species in the Pacific, Indian, Atlantic, Arctic and Southern Oceans. The permit authorizes Level B harassment during aerial and vessel surveys for photo-identification/photogrammetry, incidental harassment, collection of sloughed skin, and salvage of carcasses and parts; Level A harassment for capture, biopsy sampling, and tagging activities; and the import/export of specimens. The permit holder requests authorization to: (1) reorganize their take table to reflect annual takes instead of 5-year cumulative takes; (2) increase the number of animals harassed during aerial and vessel surveys, biopsy sampled, and/or tagged for several cetacean species; (3) collapse authorized takes of six cetacean stocks to the species level; (4) add Antarctic minke whales (Balaenoptera bonaerensis) to species that may be harassed during aerial and vessel surveys for photo-id and biopsy sampled; (5) add four new cetacean categories for animals that are observed but not identifiable during surveys; (6) add 14 cetacean species/stocks to those that may be harassed/sampled in the Southern Ocean; and (7) satellite tag up to 50 non-endangered killer whales (Orcinus orca) in Antarctic waters annually.

Concurrent with the publication of this notice in the Federal Register, NMFS is forwarding copies of this application to the Marine Mammal Commission and its Committee of Scientific Advisors.

Documents may be reviewed in the following locations:

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018; and

Pacific Islands Region, NMFS, 1601 Kapiolani Blvd., Rm 1110, Honolulu, HI 96814-4700; phone (808)973-2935; fax (808)973-2941.

Dated: March 6, 2007.
Tammy C. Adams,
Acting Chief, Permits, Conservation and Education Division, Office of Protected Resources, National Marine Fisheries Service.

[FR Doc. E7-4445 Filed 3-9-07; 8:45 am]

BILLING CODE 3510-22-S